DEPARTMENT OF THE TREASURY

Internal Revenue Service

Community Volunteer Income Tax Assistance (VITA) Matching Grant Program—Availability of Application Packages

AGENCY: Internal Revenue Service (IRS), Treasury.

ACTION: Notice.

SUMMARY: This document provides notice of the availability of application packages for the 2011 Community Volunteer Income Tax Assistance (VITA) Matching Grant Program.

DATES: Application packages are available from the IRS at this time. The deadline for submitting an application to the IRS for the Community VITA Matching Grant Program is July 9, 2010.

ADDRESSES: Electronic copies of the application package can be obtained by visiting: IRS.gov (key word search— “VITA Grant”). Application packages may also be requested by sending an e-mail to Grant.Program.Office@irs.gov. Applications may be submitted electronically through GRANTS.gov or via hardcopy by the United States Postal Service, mail, or private delivery service by the deadline date. Application packages should be mailed to: Internal Revenue Service, Grant Program Office, 401 West Peachtree St., NW., Suite 1645, Stop 420-D, Atlanta, GA 30308.

FOR FURTHER INFORMATION CONTACT: The Grant Program Office at (404) 338-7894 (a non-toll free number) or by e-mail at Grant.Program.Office@irs.gov.

SUPPLEMENTARY INFORMATION: Authority for the 2011 Community Volunteer Income Tax Assistance (VITA) Matching Grant Demonstration Program for tax return preparation is contained in the Consolidated Appropriation Act, 2010, Public Law 111-117, signed December 16, 2009.

Dated: April 15, 2010.
Robin Taylor,
Chief, Grant Program Office, IRS, Stakeholder Partnerships, Education & Communication.

[FR Doc. 2010-9771 Filed 4-27-10; 8:45 am]

BILLING CODE 4830-01-P